DEPARTMENT OF TRANSPORTATION

Federal Highway Administration

Tier 2 Environmental Impact Statement: Morgan, Johnson and Marion Counties, Indiana

AGENCY: Federal Highway Administration (FHWA), DOT.

ACTION: Notice of intent.

SUMMARY: The FHWA is issuing this notice to advise the public about the resumption of environmental activities leading to a Tier 2 Environmental Impact Statement (EIS) for the proposed Section 6 of I-69, located in Morgan, Johnson and Marion Counties, Indiana, of the Evansville-to-Indianapolis Interstate 69 (I-69) highway. This Notice of Intent (NOI) updates the NOI published in the April 29, 2004 Federal Register. The purpose of this NOI is to advise that pursuant to the March 24, 2004 Tier 1 Record of Decision (ROD) for this project, a range of alternatives will be evaluated which may include alternatives outside of the corridor selected in the Tier 1 ROD. All alternatives evaluated will connect Section 5 of I-69 in Martinsville with I-465 in Indianapolis.

FOR FURTHER INFORMATION CONTACT: Michelle Allen, Planning and Environmental Specialist, Federal Highway Administration, Indiana Division, 575 N. Pennsylvania Avenue, Room 254, Indianapolis, Indiana 46204, Telephone (317) 226-7344 or Laura Hilden, Director of Environmental Services, Indiana Department of Transportation, 100 North Senate Avenue, Room N642, Indianapolis, Indiana 46204.

SUPPLEMENTARY INFORMATION: The FHWA, in cooperation with the Indiana Department of Transportation (INDOT), began in 2004 to prepare a Tier 2 EIS on a proposal to build Section 6 of the Evansville-to-Indianapolis I-69 highway. Section 6 is located in Morgan, Johnson and Marion Counties, Indiana. The NOI for these activities was published in the Federal Register on April 29, 2004. The proposed action described in that NOI involved the construction of an interstate highway generally following State Route (SR) 37 from SR 39 south of Martinsville and proceeding north for approximately 25.9 miles to Interstate 465 in Indianapolis.

I-69 (formerly known as Corridor 18) is a strategic, high priority highway serving the east-central United States. I-69 is planned to be a continuous north-south corridor linking Canada, the United States and Mexico. FHWA has identified 32 separate sections of independent utility (SIUs) for the national I-69 corridor. The Evansville-to-Indianapolis section of I-69 has been designated by FHWA as SIU 3.

The FHWA approved the ROD on the Tier 1 Final EIS for the I-69 SIU 3 on March 24, 2004. The purpose of the Tier 1 study was to resolve: (1) whether or not to complete I-69 in Southwestern Indiana; and if so, (2) the selection of a corridor for I-69 between Evansville and Indianapolis. The Tier 1 ROD identified six (6) Sections of Independent Utility that would be advanced to Tier 2 studies.

Tier 2 NEPA studies have concluded in Sections 1, 2, 3, 4, and 5. Sections 1 through 3 (connecting Evansville, Oakland City, Washington, and Crane Naval Surface Warfare Center) are completed and open to traffic. Section 4 (connecting Crane Naval Surface Warfare Center and Bloomington) is under construction, and is expected to be open to traffic in 2015. Section 5 (connecting Bloomington and Martinsville) is under construction and major construction activities associated with Section 5 are anticipated to be complete by the end of 2016.

The 2004 NOI for Section 6 stated that alternatives generally will be located within the corridor approved in the Tier 1 ROD. However, the Tier 1 ROD permitted alternatives outside the selected corridor to be considered when necessary to avoid significant impacts within the corridor while still connecting the Tier 2 termini designated in the Tier 1 ROD. Due to the potential for increased impacts and/or changed conditions, the resumed Tier 2 studies in Section 6 may consider alternatives outside the selected Tier 1 corridor. All alternatives considered will connect Section 5 of I-69 in Martinsville with I-465 in Indianapolis.

Scoping coordination occurred with appropriate state and federal resource agencies at the outset of Tier 2 studies in Section 6. Opportunities also were afforded the public to participate in the scoping process. These scoping activities resulted in the identification of preliminary alternatives within the Section 6 corridor between Martinsville and Indianapolis. When Section 6 studies resume, these preliminary alternatives will remain under consideration for the study.

With the resumption of Section 6 studies, the appropriate federal and state resource agencies will be included in additional scoping activities. These scoping activities will identify additional alternatives connecting Section 5 in Martinsville with I-465 in Indianapolis. These alternatives may be outside the Tier 1 corridor for much or most of their length. The public will also have opportunities to comment during this scoping process and other stages throughout the development of the proposed project. A date for a scoping meeting for regulatory agencies to address Section 6 will be established at a later date. A public scoping meeting for this Tier 2 section will also be scheduled at a later date.

Interchange location and preliminary design, access to abutting properties, and location of grade separations with intersecting roads will be determined in this Tier 2 EIS.

The range of alternatives appropriate for the Section 6 Tier 2 EIS will be determined in consultation with resource agencies. Consideration of the No Build alternative will be included as a baseline for analysis, in accordance with applicable regulations.

To ensure that the full range of issues related to this proposed action is addressed and any significant impacts are identified, comments and suggestions are invited from all interested parties.

Comments or questions concerning this proposed action and this Tier 2 EIS should be directed to the FHWA or the INDOT at the address provided above.

Catalog of Federal Domestic Assistance Program Number 20.205, Highway Planning and Construction. The regulations implementing Executive Order 12732 regarding intergovernmental consultation on Federal programs and activities apply to this program.

Authority: 23 U.S.C. 315; 49 CFR 1.48.

Issued on: October 7, 2014.
Richard J. Marquis,
Division Administrator, Federal Highway Administration, Indianapolis, Indiana.

[FR Doc. 2014-24453 Filed 10-14-14; 8:45 am]

BILLING CODE P